DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Information Program Social Network Analysis Mail Survey.

OMB Control Number: 0648-.

Form Number(s): None.

Type of Request: Regular.

Number of Respondents: 4,500.

Average Hours per Response: 0.25.

Burden Hours: 1,125.

Needs and Uses: NOAA Fisheries needs to educate and inform anglers about MRIP generally, but there's no way to effectively reach millions of individual anglers. Therefore, the agency is looking to identify how and where anglers get and share their information. In 2019, MRIP will undertake a social network survey to help identify relationships, networks, channels, and information flow among the numerous audiences that comprise the recreational fishing community. Completing this survey of licensed saltwater recreational anglers along with a subsequent analysis will help MRIP more effectively engage with its audiences by identifying key influencers and information pathways, and identifying the areas of greatest need and greatest opportunity for relationship-building. Data gathered will include angler use of and trust in different sources and channels of fisheries management information. These data will be used to identify key information sources for recreational anglers, evaluate regional differences in information sources, and evaluate recreational angler confidence in management and data collection efforts, thus allowing MRIP to more effectively communicate with recreational anglers on data collection issues by focusing communications efforts on important network channels.

Affected Public: Individuals or Households.

Frequency: One-time reporting.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-01394 Filed 2-6-19; 8:45 am]

BILLING CODE 3510-22-P